SUSQUEHANNA RIVER BASIN COMMISSION

Public Hearing and Commission Meeting

AGENCY: Susquehanna River Basin Commission.

ACTION: Notice.

SUMMARY: The Susquehanna River Basin Commission will hold a public hearing as part of its regular business meeting on December 15, 2011, in Wilkes-Barre, Pennsylvania. At the public hearing, the Commission will consider: (1) The rescission of three docket approvals; (2) action on certain water resources projects; and (3) a request for partial fee waiver from SWEPI LP. Details concerning the matters to be addressed at the public hearing and business meeting are contained in the Supplementary Information section of this notice.

DATES: December 15, 2011, at 8:30 a.m.

ADDRESSES: Best Western East Mountain Inn & Suites, 2400 East End Boulevard—Route 115 (Exit 170-A off I-81), Wilkes-Barre, Pa.

FOR FURTHER INFORMATION CONTACT: Richard A. Cairo, General Counsel, telephone: (717) 238-0423, ext. 306; fax: (717) 238-2436; email: rcairo@srbc.net or Stephanie L. Richardson, Secretary to the Commission, telephone: (717) 238-0423, ext. 304; fax: (717) 238-2436; email: srichardson@srbc.net.

SUPPLEMENTARY INFORMATION: In addition to the public hearing and its related action items identified below, the business meeting also includes actions or presentations on the following items: (1) A presentation on the Commission's new Anthracite Remediation Strategy in conjunction with the Eastern Pennsylvania Coalition for Abandoned Mine Reclamation; (2) a resolution concerning the use of lesser quality water; (3) presentation of the Commission's William Jeanes Award; (4) a report on hydrologic conditions in the basin; (5) a resolution concerning FY-2013 federal funding of the Susquehanna Flood Forecast and Warning System and National Streamflow Information Program; (6) a presentation of the Commission's Morrison Cove Report; (7) consideration of a final rulemaking action; (8) consideration of an administrative appeal settlement; (9) a revision of the by-laws relating to the Commission's Investment Policy; (10) presentation of the FY-2011 Audit Report; and (11) ratification/approval of grants/contracts. The Commission will also hear Legal Counsel's report.

Public Hearing—Projects Scheduled for Rescission Action:

1. Project Sponsor and Facility: EXCO Resources (PA), LLC (Pine Creek) (Docket No. 20081203), Cummings Township, Lycoming County, Pa.

2. Project Sponsor and Facility: EXCO Resources (PA), LLC (Unnamed Tributary to Sandy Run) (Docket No. 20081209), Burnside Township, Centre County, Pa.

3. Project Sponsor and Facility: Possum Valley Municipal Authority (Docket No. 20090636), Menallen Township, Adams County, Pa.

Public Hearing—Projects Scheduled for Action:

1. Project Sponsor: Anadarko E&P Company LP. Project Facility: Sproul State Forest—Council Run, Snow Shoe Township, Centre County, Pa. Application for groundwater withdrawal of up to 0.715 mgd (30-day average) from Well PW-11.

2. Project Sponsor: Bioenergy International, LLC. Project Facility: Bionol Clearfield, LLC, Clearfield Borough, Clearfield County, Pa. Modification to conditions of the surface water withdrawal approval (Docket No. 20070904).

3. Project Sponsor: Borough of Ephrata. Project Facility: Ephrata Area Joint Authority, Ephrata Borough, Lancaster County, Pa. Modification to conditions of the groundwater withdrawal approval (Docket No. 20110902).

4. Project Sponsor and Facility: Carrizo (Marcellus), LLC (Mosquito Creek-2), Karthaus Township, Clearfield County, Pa. Application for surface water withdrawal of up to 2.160 mgd.

5. Project Sponsor and Facility: Central New York Oil and Gas Company, LLC (Susquehanna River), Wilmot Township, Bradford County, Pa. Application for surface water withdrawal of up to 0.540 mgd.

6. Project Sponsor and Facility: Central New York Oil and Gas Company, LLC, Wilmot Township, Bradford County, Pa. Application for consumptive water use of up to 0.105 mgd.

7. Project Sponsor and Facility: Chesapeake Appalachia, LLC (Susquehanna River—Babcock), Ulster Township, Bradford County, Pa. Application for surface water withdrawal of up to 3.000 mgd.

8. Project Sponsor and Facility: Chesapeake Appalachia, LLC (Susquehanna River—Elmglade), Wilmot Township, Bradford County, Pa. Application for surface water withdrawal of up to 2.016 mgd.

9. Project Sponsor and Facility: Chesapeake Appalachia, LLC (Towanda Creek—Sechrist), Canton Township, Bradford County, Pa. Application for surface water withdrawal of up to 0.504 mgd.

10. Project Sponsor: Clark Trucking, LLC. Project Facility: Northeast Division (Lycoming Creek), Lewis Township, Lycoming County, Pa. Application for surface water withdrawal of up to 0.500 mgd.

11. Project Sponsor: Clark Trucking, LLC. Project Facility: Northeast Division (Muncy Creek), Muncy Creek Township, Lycoming County, Pa. Application for surface water withdrawal of up to 0.700 mgd.

12. Project Sponsor and Facility: Dunn Lake LLC (Dunn Pond), Ararat Township, Susquehanna County, Pa. Application for surface water withdrawal of up to 0.999 mgd.

13. Project Sponsor and Facility: EXCO Resources (PA), LLC (Muncy Creek—McClintock), Penn Township, Lycoming County, Pa. Application for surface water withdrawal of up to 1.500 mgd.

14. Project Sponsor: Glenn O. Hawbaker, Inc. Project Facility: Greens Landing Aggregate Plant, Athens Township, Bradford County, Pa. Application for surface water withdrawal of up to 0.249 mgd.

15. Project Sponsor: Glenn O. Hawbaker, Inc. Project Facility: Greens Landing Aggregate Plant, Athens Township, Bradford County, Pa. Application for consumptive water use of up to 0.249 mgd.

16. Project Sponsor: Hazleton Creek Properties, LLC. Project Facility: Hazleton Mine Reclamation, Hazleton City, Luzerne County, Pa. Modification to increase groundwater withdrawal by an additional 0.145 mgd, for a total of 0.200 mgd (30-day average) (Docket No. 20110307).

17. Project Sponsor and Facility: Keystone Clearwater Solutions, LLC (Babb Creek), Morris Township, Tioga County, Pa. Application for surface water withdrawal of up to 0.950 mgd.

18. Project Sponsor and Facility: Stanley S. Karp Sr. (Tunkhannock Creek), Nicholson Borough, Wyoming County, Pa. Application for surface water withdrawal of up to 0.510 mgd.

19. Project Sponsor and Facility: Sugar Hollow Trout Park and Hatchery, Eaton Township, Wyoming County, Pa. Modification to project features and conditions of the groundwater withdrawal approval (Docket No. 20100913).

20. Project Sponsor and Facility: Sugar Hollow Water Services, LLC (Susquehanna River—Chellis), Eaton Township, Wyoming County, Pa. Application for surface water withdrawal of up to 1.500 mgd.

21. Project Sponsor: The Municipal Authority of the Borough of Berlin. Project Facility: Berlin Borough Municipal Authority, Allegheny Township, Somerset County, Pa. Modification to conditions of the groundwater withdrawal approval (Docket No. 19980702).

22. Project Sponsor and Facility: Walker Township Water Association, Walker Township, Centre County, Pa. Modification to increase the total groundwater system withdrawal limit from 0.523 mgd to 0.753 mgd (30-day average) (Docket No. 20070905).

23. Project Sponsor and Facility: Williams Production Appalachia, LLC (Middle Branch Wyalusing Creek), Forest Lake Township, Susquehanna County, Pa. Application for surface water withdrawal of up to 0.750 mgd.

24. Project Sponsor and Facility: Williams Production Appalachia, LLC (Snake Creek-2), Franklin Township, Susquehanna County, Pa. Application for surface water withdrawal of up to 0.999 mgd.

25. Project Sponsor and Facility: Williams Production Appalachia, LLC (Susquehanna River), Great Bend Township, Susquehanna County, Pa. Commission-initiated modification to project features and conditions of the surface water withdrawal approval (Docket No. 20090303), making a correction and reducing the approved surface water withdrawal amount from 3.00 mgd to 1.00 mgd.

26. Project Sponsor and Facility: Williams Production Appalachia, LLC (Susquehanna River-2), Great Bend Township, Susquehanna County, Pa. Application for surface water withdrawal of up to 2.000 mgd.

Opportunity To Appear and Comment:

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, email: rcairo@srbc.net or Stephanie L. Richardson, Secretary to the Commission, email: srichardson@srbc.net. Comments mailed or electronically submitted must be received prior to December 9, 2011, to be considered.

Authority: Public Law 91-575, 84 Stat. 1509 et seq., 18 CFR Parts 806, 807, and 808.

Dated: November 10, 2011.
Thomas W. Beauduy,
Deputy Executive Director.

[FR Doc. 2011-29964 Filed 11-18-11; 8:45 am]

BILLING CODE 7040-01-P